NUCLEAR REGULATORY COMMISSION

Sunshine Act Meeting

Agency Holding the Meeting: Nuclear Regulatory Commission.

Dates: Weeks of July 19, 26, August 2, 9, 16, 23, 2004.

Place: Commissioners' Conference Room, 11555 Rockville Pike, Rockville, Maryland.

Status: Public and Closed.

Matters To Be Considered:

Week of July 19, 2004

Wednesday, July 21, 2004

9:30 a.m. Meeting with Advisory Committee on Nuclear Waste (ACNW) (Public Meeting) (Contact: John Larkins, 301-415-7360)

This meeting will be webcast live at the Web address— www.nrc.gov.

Week of July 26, 2004—Tentative

There are no meetings scheduled for the Week of July 26, 2004.

Week of August 2, 2004—Tentative

There are no meetings scheduled for the Week of August 2, 2004.

Week of August 9, 2004—Tentative

There are no meetings scheduled for the Week of August 9, 2004.

Week of August 16, 2004—Tentative

Wednesday, August 18, 2004

9:30 a.m. Discussion of Security issues (Closed—Ex. 1)

Week of August 23, 2004—Tentative

There are no meetings scheduled for the Week of August 23, 2004.

*The schedule for Commission meetings is subject to change on short notice. To verify the status of meetings call (recording)—(301) 415-1292. Contact person for more information: Dave Gameroni, (301) 415-1651.

* * * * *

ADDITIONAL INFORMATION: By a vote of 3-0 on July 6 and 7, the Commissions determined pursuant to U.S.C. 552b(e) and § 9.107(a) of the Commission's rules that “Discussion of Security Issues (Closed—Ex. 1)” be held July 15, and on less than one week's notice to the public.

* * * * *

The NRC Commission Meeting Schedule can be found on the Internet at: www.nrc.gov/what-we-do/policy-making/schdule.html

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 15, 2004.
Dave Gamberoni,
Office of the Secretary.

[FR Doc. 04-16529 Filed 7-16-04; 9:30 am]

BILLING CODE 7590-01-M